DEPARTMENT OF HOMELAND SECURITY

Federal Emergency Management Agency

[Docket ID: FEMA-2010-0016]

Agency Information Collection Activities: Proposed Collection; Comment Request, 1660-0005; National Flood Insurance Program—Claim Forms

AGENCY: Federal Emergency Management Agency, DHS.

ACTION: Notice; 60-day notice and request for comments; revision of a currently approved information collection; OMB No. 1660-0005; FEMA Form 086-0-6 (formerly 81-40) National Flood Insurance Program Worksheet-Contents-Personal Property; 086-0-7 (formerly 81-41) Worksheet—Building; 086-0-8 (formerly 81-41A) Worksheet—Building (Continued); 086-0-9 (formerly 81-42) Proof of Loss; 086-0-10 (formerly 81-42A) Increased Cost of Compliance Proof of Loss; 086-0-11 (formerly 81-43) Notice of Loss; 086-0-12 (formerly 81-44) Statement as to Full Cost of Repair or Replacement under the Replacement Cost Coverage, Subject to the Terms and Conditions of this Policy; 086-0-13 (formerly 81-57) National Flood Insurance Program Preliminary Report; 086-0-14 (formerly 81-58) National Flood Insurance Program Final Report; 086-0-15 (formerly 81-59) National Flood Insurance Program Narrative Report; 086-0-16 (formerly 81-63) Cause of Loss and Subrogation Report; 086-0-17 (formerly 81-96) Manufactured (Mobile) Home/Travel Trailer Worksheet; 086-0-18 (formerly 81-96A) Manufactured (Mobile) Home/Travel Trailer Worksheet (Continued); 086-0-19 (formerly 81-98) Increased Cost of Compliance (ICC) Adjuster Report; 086-0-20 (formerly 81-109) Adjuster Preliminary Damage Assessment; 086-0-21(formerly 81-110) Adjuster Certification Application.

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning the collection of information related to the flood insurance claims process.

DATES: Comments must be submitted on or before July 6, 2010.

ADDRESSES: To avoid duplicate submissions to the docket, please use only one of the following means to submit comments:

(1) Online. Submit comments at http://www.regulations.gov under Docket ID FEMA-2010-0016. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include Docket ID FEMA-2010-0016 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Donald Waters, Insurance Examiner, FEMA 202-212-4725 for additional information. You may contact the Records Management Division for copies of the proposed collection of information at facsimile number (202) 646-3347 or e-mail address: FEMA-Information-Collections-Management@dhs.gov.

SUPPLEMENTARY INFORMATION: The National Flood Insurance Program (NFIP) is codified at 42 U.S.C. 4001, et seq. and is authorized by Public Law 90-448 (1968) and expanded by Public Law 93-234 (1973). The National Flood Insurance Act of 1968 requires that the Federal Emergency Management Agency (FEMA) provide flood insurance at full actuarial rates reflecting the complete flood risk to structures built or substantially improved on or after the effective date for the initial Flood Insurance Rate Map (FIRM) for the community, or after December 31, 1974, whichever is later, so that the risk associated with buildings in flood-prone areas are borne by those located in such areas and not by the taxpayers at large. In accordance with Public Law 93-234, the purchase of flood insurance is mandatory when Federal or federally related financial assistance is being provided for acquisition or construction of buildings located, or to be located, within FEMA-identified special flood hazard areas of communities that are participating in the NFIP. When flood damage occurs to insured property, information is collected to report, investigate, negotiate, and settle the claim.

Collection of Information

Title: National Flood Insurance Program—Claim Forms.

Type of Information Collection: Revision of a currently approved information collection.

OMB Number: 1660-0005.

Form Titles and Numbers: FEMA Form 086-0-6 (formerly 81-40) National Flood Insurance Program Worksheet-Contents-Personal Property; 086-0-7 (formerly 81-41) Worksheet—Building; 086-0-8 (formerly 81-41A) Worksheet—Building (Continued); 086-0-9 (formerly 81-42) Proof of Loss; 086-0-10 (formerly 81-42A) Increased Cost of Compliance Proof of Loss; 086-0-11 (formerly 81-43) Notice of Loss; 086-0-12 (formerly 81-44) Statement as to Full Cost of Repair or Replacement under the Replacement Cost Coverage, Subject to the Terms and Conditions of this Policy; 086-0-13 (formerly 81-57) National Flood Insurance Program Preliminary Report; 086-0-14 (formerly 81-58) National Flood Insurance Program Final Report; 086-0-15 (formerly 81-59) National Flood Insurance Program Narrative Report; 086-0-16 (formerly 81-63) Cause of Loss and Subrogation Report; 086-0-17 (formerly 81-96) Manufactured (Mobile) Home/Travel Trailer Worksheet; 086-0-18 (formerly 81-96A) Manufactured (Mobile) Home/Travel Trailer Worksheet (Continued); 086-0-19 (formerly 81-98) Increased Cost of Compliance (ICC) Adjuster Report; 086-0-20 (formerly 81-109) Adjuster Preliminary Damage Assessment; 086-0-21(formerly 81-110) Adjuster Certification Application.

Abstract: The claims forms used for the National Flood Insurance Program are used by policyholders and adjusters to collect the information needed to investigate, document, evaluate, and settle claims against National Flood Insurance Program policies for flood damage to their insured property or qualification for benefits under Increased Cost of Compliance coverage.

Affected Public: Individuals or households; Business or other for-profit; Not for-profit institutions; farms; Federal Government; State, local or Tribal government.

Estimated Total Annual Burden Hours: 20,841.6 Hours.

Estimated Annualized Burden Hours and Costs
Type of respondent | Form name/form No. | Number of respondents | Number of responses per respondent | Total Number of responses | Avg. burden per response (in hours) | Total annual burden (in hours) | Avg. hourly wage rate | Total annual respondent cost
Business or other for-profit | National Flood Insurance Program Worksheet-Contents-Personal Property/FEMA Form 86-0-06 | 2,184 | 1 | 2,184 | 2.5 | 5,460.0 | $38.74 | $211,520
Business or other for-profit | Worksheet—Building/FEMA Form 086-0-07 | 3,640 | 1 | 3,640 | 2.5 | 9,100.0 | 38.74 | 352,534
Business or other for-profit | Worksheet—Building (Continued)/FEMA Form 086-0-08 | 3,640 | 1 | 3,640 | 1 | 3,640.0 | 38.74 | 141,014
Business or other for-profit | Proof of Loss/FEMA Form 086-0-09 | 3,640 | 1 | 3,640 | 0.08 | 291.2 | 38.74 | 11,281
Business or other for-profit | Increased Cost of Compliance Proof of Loss/FEMA Form 086-0-10 | 260 | 1 | 260 | 2 | 520.0 | 38.74 | 20,145
Business or other for-profit | Notice of Loss/FEMA Form 086-0-11 | 3,640 | 1 | 3,640 | 0.07 | 254.8 | 40.68 | 10,365
Business or other for-profit | Statement as to Full Cost of Repair or Replacement under the Replacement Cost Coverage, Subject to the Terms and Conditions of this Policy/FEMA Form 086-0-12 | 1,040 | 1 | 1,040 | 0.1 | 104.0 | 38.74 | 4,029
Business or other for-profit | National Flood Insurance Program Preliminary Report/FEMA Form 086-0-13 | 3,640 | 1 | 3,640 | 0.07 | 254.8 | 38.74 | 9,871
Business or other for-profit | National Flood Insurance Program Final Report/FEMA Form 086-0-14 | 3,640 | 1 | 3,640 | 0.07 | 254.8 | 38.74 | 9,871
Business or other for-profit | National Flood Insurance Program Narrative Report/FEMA Form 086-0-15 | 2,080 | 1 | 2,080 | 0.08 | 166.4 | 38.74 | 6,446
Business or other for-profit | Cause of Loss and Subrogation Report/FEMA Form 086-0-16 | 364 | 1 | 364 | 1 | 364.0 | 38.74 | 14,101
Business or other for-profit | Manufactured (Mobile) Home/Travel Trailer Worksheet/FEMA Form 086-0-17 | 208 | 1 | 208 | 0.05 | 10.4 | 38.74 | 403
Business or other for-profit | Manufactured (Mobile) Home/Travel Trailer Worksheet (Continued)/FEMA Form 086-0-18 | 208 | 1 | 208 | 0.25 | 52.0 | 38.74 | 2,014
Business or other for-profit | Increased Cost of Compliance (ICC) Adjuster Report/FEMA Form 086-0-19 | 260 | 1 | 260 | 0.42 | 109.2 | 38.74 | 4,230
Business or other for-profit | Adjuster Preliminary Damage Assessment/FEMA Form 086-0-20 | 520 | 1 | 520 | 0.25 | 130.0 | 38.74 | 5,036
Business or other for-profit | Adjuster Certification Application/FEMA Form 086-0-21 | 520 | 1 | 520 | 0.25 | 130.0 | 38.74 | 5,036
Total |  | 3,640 |  | 29,484 |  | 20841.6 |  | 807,898

Estimated Cost: There are no operation and maintenance, or capital and start-up costs associated with this collection of information.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: April 28, 2010.
Samuel C. Smith,
Acting Director, Records Management Division, Mission Support Bureau, Federal Emergency Management Agency, Department of Homeland Security.

[FR Doc. 2010-10526 Filed 5-4-10; 8:45 am]

BILLING CODE 9110-11-P